DEPARTMENT OF THE INTERIOR

Fish and Wildlife Service

[FWS-HQ-WSFR-2022-0035; FVWF97820900000-XXX-FF09W13000 and FVWF54200900000-XXX-FFO9W13000; OMB Control Number 1018-0088]

Agency Information Collection Activities; National Survey of Fishing, Hunting, and Wildlife-Associated Recreation (FHWAR)

AGENCY: Fish and Wildlife Service, Interior.

ACTION: Notice of information collection; request for comment.

SUMMARY: In accordance with the Paperwork Reduction Act of 1995 (PRA), we, the U.S. Fish and Wildlife Service (Service), are proposing to revise a currently approved information collection.

DATES: Interested persons are invited to submit comments on or before June 27, 2022.

ADDRESSES: Send your comments on the information collection request (ICR) by one of the following methods (please reference OMB Control No. 1018-0088 in the subject line of your comment):

• Internet (preferred): https://www.regulations.gov. Follow the instructions for submitting comments on Docket No. FWS-HQ-WSFR-2022-0035.

• Email: Info_Coll@fws.gov.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the information collection request (ICR) at https://www.reginfo.gov/public/do/PRAMain.

SUPPLEMENTARY INFORMATION: In accordance with the Paperwork Reduction Act of 1995 (PRA, 44 U.S.C. 3501 et seq.) and its implementing regulations in the Code of Federal Regulations (CFR) at 5 CFR 1320, we provide the general public and other Federal agencies with an opportunity to comment on new, proposed, revised, and continuing collections of information. This helps us assess the impact of our information collection requirements and minimize the public's reporting burden. It also helps the public understand our information collection requirements and provide the requested data in the desired format.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The information collected for the National Survey of Fishing, Hunting and Wildlife-Associated Recreation (FHWAR) assists the Fish and Wildlife Service in administering the Wildlife and Sport Fish Restoration grant programs. The 2022 FHWAR survey will provide up-to-date information on the uses and demands for wildlife-related recreation resources and a basis for developing and evaluating programs and projects to meet existing and future needs.

We collect the information in conjunction with carrying out our responsibilities under the Dingell-Johnson Sport Fish Restoration Act (16 U.S.C. 777-777m) and the Pittman-Robertson Wildlife Restoration Act (16 U.S.C. 669-669i). Under these acts, as amended, we provide approximately $1 billion in grants annually to States for projects that support sport fish and wildlife management and restoration, including:

• Improvement of fish and wildlife habitats,

• Fishing and boating access,

• Fish stocking, and

• Hunting and fishing opportunities.

We also provide grants for aquatic education and hunter education, maintenance of completed projects, and research into problems affecting fish and wildlife resources. These projects help to ensure that the American people have adequate opportunities for fish and wildlife recreation. We conduct the survey about every 5 years. The 2022 FHWAR survey will be the 14th conducted since 1955. We sponsor the survey at the States' request, which is made through the Association of Fish and Wildlife Agencies. We contract with the National Opinion Research Center (NORC) at the University of Chicago, which collects the information using internet, telephone, or mail-in paper-and-pencil instrument (PAPI).

Respondents are invited to take the survey with a mailed letter. NORC will select a sample of sportspersons and wildlife watchers from a household screen and conduct three detailed interviews during the survey year. The survey collects information on the number of days of participation, species of animals sought, and expenditures for trips and equipment. Information on the characteristics of participants includes age, income, sex, education, race, and State of residence. The Wave 3 Freshwater/Saltwater Ratio Questionnaire is designed to get freshwater and saltwater fishing data for coastal states. The Wildlife and Sportfish Restoration Program is required to divide fishing management funds according to the ratio of freshwater and saltwater anglers in each coastal state.

Federal and State agencies use information from the survey to make policy decisions related to fish and wildlife restoration and management. Participation patterns and trend information help identify present and future needs and demands. Land management agencies use the data on expenditures and participation to assess the value of wildlife-related recreational uses of natural resources. Wildlife-related recreation expenditure information is used to estimate the impact on the economy and to support the dedication of tax revenues for fish and wildlife restoration programs.

Proposed Revisions

The 2022 FHWAR does not currently include the questions on birdwatching participation and days of participation that had been asked in previous rounds of the FHWAR. However, due to high interest in the birdwatching data, we are submitting an amendment to add these questions to the survey. These questions will be included in Wave 3 and will ask about participation in birdwatching and days of participation for the 12-month reference period of 2022. The sample will not be affected and will be the same across modes.

Below are the questions we will add to the Wave 3 wildlife watching questionnaire:

• Last year (from January 1 to December 31, 2022), did you closely observe or try to identify birds around your home, meaning the area within a 1-mile radius of your home?

• Last year (from January 1 to December 31, 2022), on how many days did you closely observe or try to identify birds around your home?

• Last year (from January 1 to December 31, 2022), on your wildlife watching trips or outings within the United States, did you closely observe birds?

• Last year (from January 1 to December 31, 2022), on how many days did you closely observe birds on your wildlife watching trips or outings within the United States?

Title of Collection: National Survey of Fishing, Hunting, and Wildlife-Associated Recreation (FHWAR).

OMB Control Number: 1018-0088.

Form Number: None.

Type of Review: Revision of a currently approved information collection.

Respondents/Affected Public: Individuals/households.

Respondent's Obligation: Voluntary.

Frequency of Collection: Screener data collection will be conducted from January through March 2022. The first detailed sportsperson and wildlife-watcher interviews will be conducted in May 2022. The second detailed interviews will be conducted in September 2022. The third and final detailed interviews will be conducted in January 2023.

Total Estimated Annual Nonhour Burden Cost: None.

Activity | Estimated number of household responses | Median completion time per response (minutes) | Estimated burden hours *
2022 Screener Survey:
Screener: Web | 27,639 | 9 | 4,146
Screener: Phone | 1,000 | 15 | 250
Screener: PAPI | 31,361 | 10 | 5,227
2022 Wave 1 Survey:
Wave Questionnaires: Web | 43,068 | 13 | 9,331
Wave Questionnaires: Phone | 833 | 22 | 305
Wave Questionnaires: PAPI | 6,972 | 14 | 1,627
2022 Wave 2 Survey:
Wave Questionnaires: Web | 32,173 | 13 | 6,971
Wave Questionnaires: Phone | 833 | 22 | 305
Wave Questionnaires: PAPI | 3,645 | 14 | 851
2022 Wave 3 Survey:
Wave Questionnaires: Web | 46,773 | 13 | 10,134
Wave Questionnaires: Phone | 950 | 22 | 348
Wave Questionnaires: PAPI | 11,811 | 14 | 2,756
Wave 3 Fishing Only Questionnaire | 13,500 | 3 | 675
Grand Total: | 220,558 |  | 42,926
* Rounded.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-08763 Filed 4-25-22; 8:45 am]

BILLING CODE 4333-15-P